FEDERAL ACCOUNTING STANDARDS ADVISORY BOARD

Notice of Request for Candidates To Serve as a Non-Federal Member of the Federal Accounting Standards Advisory Board

AGENCY: Federal Accounting Standards Advisory Board.

ACTION: Notice.

FOR FURTHER INFORMATION CONTACT: Ms. Monica R. Valentine, Executive Director, 441 G Street NW, Suite 1155, Washington, DC 20548, or call (202) 512-7350.

SUPPLEMENTARY INFORMATION: Pursuant to 31 U.S.C. 3511(d), the Federal Advisory Committee Act as amended (5 U.S.C. App.), and the FASAB Rules of Procedure, as amended in October 2010, notice is hereby given that the Federal Accounting Standards Advisory Board (FASAB) is currently seeking candidates (candidates must not currently be federal employees) to serve as a non-federal member of FASAB. FASAB is the body designated to establish generally accepted accounting principles for federal government entities. Generally, non-federal Board members are selected from the general financial community, the accounting and auditing community, or the academic community.

The Board generally meets for two days every other month in Washington, DC, however due to the ongoing COVID-19 pandemic, the Board is meeting virtually. Members are compensated for 24 days per year based on current federal executive salaries. Travel expenses are reimbursed in accordance with federal travel regulations.

Responses may be submitted by email to fasab@fasab.gov. Please submit your resume by April 30, 2021. Additional information about FASAB can be obtained from its website at https://www.fasab.gov.

Authority: Federal Advisory Committee Act, 5 U.S.C. App.

Dated: March 19, 2021.
Monica R. Valentine,
Executive Director.

[FR Doc. 2021-06108 Filed 3-24-21; 8:45 am]

BILLING CODE 1610-02-P